DEPARTMENT OF VETERANS AFFAIRS

[OMB Control No. 2900-0017]

Agency Information Collection Activities Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, has submitted the collection of information abstracted below to the Office of Management and Budget (OMB) for review and comment. The PRA submission describes the nature of the information collection and its expected cost and burden and includes the actual data collection instrument.

DATES: Comments must be submitted on or before December 5, 2003.

FOR FURTHER INFORMATION OR A COPY OF THE SUBMISSION CONTACT: Denise McLamb, Records Management Service (005E3), Department of Veterans Affairs, 810 Vermont Avenue, NW., Washington, DC 20420, (202) 273-8030, FAX (202) 273-5981 or e-mail: denise.mclamb@mail.va.gov. Please refer to “OMB Control No. 2900-0017.”

Send comments and recommendations concerning any aspect of the information collection to VA's OMB Desk Officer, OMB Human Resources and Housing Branch, New Executive Office Building, Room 10235, Washington, DC 20503 (202) 395-7316. Please refer to “OMB Control No. 2900-0017” in any correspondence.

SUPPLEMENTARY INFORMATION: Titles:

a. Court Appointed Fiduciary's Account (Letter Size), VA Form 21-4706.

b. Federal Fiduciary for Amounts, VA Form 21-4706b.

c. Court Appointed Fiduciary's Account, VA Form 21-4706c.

d. Account Book, VA Form 21-4718.

e. Certificate of Balance on Deposit and Authorization to Disclose Financial Records (Pursuant to title 38, U.S.C., Chapter 55 and Title 12, U.S.C., Chapter 35), VA Form 27-4718a.

OMB Control Number: 2900-0017.

Type of Review: Extension of a currently approved collection.

Abstract:

a. VA Forms 21-4706—4706b and 4706c are used by estate to determine proper usage of benefits paid to fiduciaries. The 21—4706 and 21—4706b are both necessary to conform to requirement of various state courts.

b. VA Form 21-4718 is provided to VA fiduciaries to submit accountings to either State courts or the VA. It is not a reporting form per se, but a vehicle to assist the fiduciary in accurately maintaining records of monies received and spent.

c. VA Form 21-4718a—Fiduciaries are required to obtain certifications that the balances remaining on deposit in financial institutions as shown on accountings are correct. The form is completed by a certifying official at a financial institution who must affix the institution's official seal or stamp. Analysts review the information provided on the form when they auditing accounting to determine the veracity of the information supplied by fiduciaries accounting. The analysts compare the financial institution's information on the form against the fiduciary's accounting. The purpose is to prevent fiduciaries from supplying false certification, embezzling funds, and possibly prevent and/or identify fraud, waste and abuse of government funds paid to fiduciaries on behalf of VA beneficiaries.

An agency may not conduct or sponsor, and a person is not required to respond to a collection of information unless it displays a currently valid OMB control number. The Federal Register Notice with a 60-day comment period soliciting comments on this collection of information was published on August 14, 2003, at page 48665.

Affected Public: Individuals and households, Business or other for-profit, Not-for-profit institutions, and State, Local or Tribal Government.

Estimated Annual Burden

a. VA Form 21-4706—500 hours.

b. VA Form 21-4706b—4,500 hours.

c. VA Form 21-4706c—1,500 hours.

d. VA Form 21-4718—12,500 hours.

e. VA Form 21-4718a—1,250 hours.

Estimated Average Burden per Respondent

a. VA Form 21-4706—30 minutes.

b. VA Form 21-4706b—27 minutes.

c. VA Form 21-4706c—30 minutes.

d. VA Form 21-4718—2½ hour.

e. VA Form 21-4718a—3 minutes.

Frequency of Response: Annually.

Estimated Number of Respondents

a. VA Form 21-4706—1,000.

b. VA Form 21-4706b—10,000.

c. VA Form 21-4706c—3,000.

d. VA Form 21-4718—5,000.

e. VA Form 21-4718a—25,000.

Dated: October 24, 2003.
By direction of the Secretary.
Jacqueline Parks,
IT Specialist, Records Management Service.

[FR Doc. 03-27723 Filed 11-4-03; 8:45 am]

BILLING CODE 8320-01-P